DEPARTMENT OF HOMELAND SECURITY

U.S. Citizenship and Immigration Services

[CIS No. 2523-12; DHS Docket No. USCIS-2009-0033]

RIN 1615-ZB13

Implementation of Immigrant Visa DHS Domestic Processing Fee

AGENCY: U.S. Citizenship and Immigration Services, Department of Homeland Security.

ACTION: Notice.

SUMMARY: U.S. Citizenship and Immigration Services (USCIS) announces that as of February 1, 2013, USCIS will begin to collect a $165 Immigrant Visa DHS Domestic Processing Fee (USCIS Immigrant Fee) from individuals who have been issued immigrant visas by the U.S. Department of State (DOS) and are applying for admission to the United States. Prospective adoptive parents whose child(ren) is/are seeking admission to the United States under the Orphan or Hague Process will be exempt from the USCIS Immigrant Fee. The USCIS Immigrant Fee covers the cost of processing that is performed in the United States after immigrant visa holders receive their visa packages from DOS and are admitted to the United States. This notice provides instructions on how individuals who have been issued immigrant visas from DOS can pay the fee.

DATES: On February 1, 2013, USCIS will begin collecting the USCIS Immigrant Fee from individuals who have been issued immigrant visas by DOS.

FOR FURTHER INFORMATION CONTACT: Lyndon Lewis, U.S. Citizenship and Immigration Services, Financial Management Division, 20 Massachusetts Avenue NW., Washington, DC 20529-2060; or by phone at (202) 272-9675 (this is not a toll-free number). You may also visit www.USCIS.gov/immigrantfee where a news release and a detailed payment Web page, including a set of questions and answers about the USCIS Immigrant Fee, are available.

SUPPLEMENTARY INFORMATION:

I. Background on Fee

On September 24, 2010, the Department of Homeland Security (DHS) published the final rule titled, U.S. Citizenship and Immigration Services Fee Schedule. 75 FR 58962. That final rule became effective on Nov. 23, 2010. The final rule, among other things, established the USCIS Immigrant Fee at $165 to recover the cost of processing that is performed in the United States after immigrant visa holders receive their immigrant visa packages from DOS at overseas consulates and are admitted to the United States. See 8 CFR 103.7(b)(1)(i)(D); see also 75 FR at 58979 (public comments on the Immigrant Visa DHS Domestic Processing Fee and DHS response). USCIS established this fee to recover its costs associated with processing, filing and maintaining the immigrant visa package, and producing and mailing required documents.

USCIS has not collected the fee from immigrant visa holders applying for admission to the United States because implementing procedures have only recently been developed in conjunction with DOS. Since the fee has not been collected since it was established, USCIS is publishing this Notice to announce that the USCIS Immigrant Fee collection process is now in place and that USCIS will begin collecting the fee in accordance with this Notice and the USCIS fee regulation at 8 CFR 103.7(b)(1)(i)(D).

The USCIS Director, however, is exempting from this USCIS Immigrant Fee prospective adoptive parents whose child(ren) is/are seeking admission to the United States under the Orphan or Hague Process. In addition, the Director has determined that the public interest of encouraging adoption of international orphans is served by exempting these new adoptive parents from this fee. USCIS will include the cost of processing immigrant visas for overseas adoptees in the next fee study conducted for adjustment of the USCIS fee schedule.

II. Fee Collection Process

To simplify and centralize the new fee collection process, immigrant visa holders applying for admission to the United States must pay the USCIS Immigrant Fee online at Pay.gov. Immigrant visa holders can electronically submit the fee by answering the questions on the USCIS intake page on Pay.gov and providing their checking account, debit or credit card information. Check payments must be drawn on a U.S. bank. If the immigrant visa holder is unable to make this payment, another person can make this payment on the immigrant visa holder's behalf.

Immigrant visa holders must submit payments online after they receive their immigrant visa package from DOS. DOS will issue the applicant:

• A USCIS handout which will include the immigrant visa holder's Alien number and Case ID number; and

• Instructions on how to submit payment.

Payment should be made before traveling to the United States. Immigrant visa holders should keep a copy of their receipt for their records. More details are available at www.USCIS.gov/immigrantfee.

Failure to pay the USCIS Immigrant Fee will not directly result in denial of admission to the United States as an immigrant or the loss of status as an alien lawfully admitted for permanent residence. However, USCIS will not issue a Permanent Resident Card (Form I-551) to an individual who is subject to the USCIS Immigrant Fee until the individual has remitted the fee. Failure to obtain the Form I-551 will make it difficult for the individual to show that he or she has complied with the alien registration requirements in sections 261-266 of the Immigration and Nationality Act, 8 U.S.C. 1301-1306. It may also make it difficult for the individual to show that he or she is authorized to accept employment in the United States or to return to the United States from temporary foreign travel.

Alejandro N. Mayorkas,
Director, U.S. Citizenship and Immigration Services.

[FR Doc. 2012-30226 Filed 12-13-12; 8:45 am]

BILLING CODE 9111-97-P